SOCIAL SECURITY ADMINISTRATION

[Document No. SSA-2007-0087]

The Ticket to Work and Work Incentives Advisory Panel Meeting

AGENCY: Social Security Administration (SSA).

ACTION: Notice of Teleconference.

DATE: November 26, 2007—4:30 p.m. to 8:30 p.m. Eastern Standard Time, Ticket to Work and Work Incentives Advisory Panel Conference Call, Call-in number: 1-888-790-4158, Pass code: PANEL TELECONFERENCE, Leader/Host: Berthy De la Rosa-Aponte.

SUPPLEMENTARY INFORMATION: Type of meeting: On November 26, 2007, the Ticket to Work and Work Incentives Advisory Panel (the “Panel”) will hold a teleconference. This teleconference meeting is open to the public.

Purpose: In accordance with section 10(a)(2) of the Federal Advisory Committee Act, the Social Security Administration (SSA) announces this teleconference meeting of the Ticket to Work and Work Incentives Advisory Panel. The publication of this announcement may not meet the 15 day advance notice requirement provided in CFR 102.3.150. The need for this teleconference was not previously anticipated and therefore not scheduled, but will be required to allow further deliberation on the Panel's final report. Section 101(f) of Public Law 106-170 establishes the Panel to advise the President, the Congress, and the Commissioner of SSA on issues related to work incentive programs, planning, and assistance for individuals with disabilities as provided under section 101(f)(2)(A) of the Act.

The Panel is also to advise the Commissioner on matters specified in section 101(f)(2)(B) of that Act, including certain issues related to the Ticket to Work and Self-Sufficiency Program established under section 101(a).

Agenda: The agenda for the meeting will be posted on the Internet at http://www.ssa.gov/work/panel at least one week before the starting date or can be received, in advance, electronically or by fax upon request.

Contact Information: Records are kept of all proceedings and will be available for public inspection by appointment at the Panel office. Anyone requiring information regarding the Panel should contact the staff by:

• Mail addressed to the Social Security Administration, Ticket to Work and Work Incentives Advisory Panel Staff, 400 Virginia Avenue, SW., Suite 700, Washington, DC 20024. Telephone contact with Debra Tidwell-Peters at (202) 358-6126.

• Fax at (202) 358-6440

• E-mail to TWWIIAPanel@ssa.gov.

Dated: November 6, 2007.
Chris Silanskis,
Designated Federal Officer.

[FR Doc. E7-22171 Filed 11-9-07; 8:45 am]

BILLING CODE 4191-02-P